DEPARTMENT OF ENERGY

10 CFR Parts 429 and 431

[EERE-2019-BT-CE-0015]

RIN 1904-AE34

Enforcement for Consumer Products and Commercial and Industrial Equipment

AGENCY: Office of Energy Efficiency and Renewable Energy, Department of Energy.

ACTION: Extension of public comment period; notice of public hearing.

SUMMARY: The U.S. Department of Energy (“DOE”) is extending the public comment period for the notice of proposed rulemaking (“NOPR”) by which DOE proposes to revise its existing enforcement regulations for certain consumer products and commercial and industrial equipment covered under the Energy Policy and Conservation Act of 1975, as amended. DOE published the NOPR in the Federal Register on August 31, 2020, establishing a public comment period that ends on October 30, 2020. In this document, DOE is extending the comment period to December 30, 2020 and announcing a public hearing on December 8, 2020.

DATES:

Comments: The comment period for the NOPR published on August 31, 2020 (85 FR 53691), is extended. DOE will accept comments, data, and information regarding the NOPR received no later than December 30, 2020.

Meeting: DOE will hold a webinar on Tuesday, December 8, 2020 from 12:00 p.m. to 4:00 p.m. EST. See “Public Participation,” for webinar registration information, participant instructions, and information about the capabilities available to webinar participants. If no participants register for the webinar, then it will be cancelled.

ADDRESSES: Interested persons are encouraged to submit comments using the Federal eRulemaking Portal at http://www.regulations.gov. Follow the instructions for submitting comments. Alternatively, interested persons may submit comments, identified by docket number EERE-2019-BT-CE-0015, by any of the following methods:

1. Federal eRulemaking Portal: http://www.regulations.gov. Follow the instructions for submitting comments.

2. Email: Enforcement2019CE@ee.doe.gov. Include the docket number EERE-2019-BT-CE-0015 in the subject line of the message.

3. Postal Mail: Office of the Assistant General Counsel for Enforcement, U.S. Department of Energy, Mailstop GC-32, 1000 Independence Avenue SW, Washington, DC 20585-0121. Telephone: (202) 287-5997. If possible, please submit all items on a compact disc (CD), in which case it is not necessary to include printed copies.

4. Hand Delivery/Courier: Hand Delivery/Courier: Office of the Assistant General Counsel for Enforcement, U.S. Department of Energy, Mailstop GC-32, 1000 Independence Avenue SW, Washington, DC 20585-0121. Telephone: (202) 287-5997. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-CE-0015. The docket web page contains instructions on how to access all documents, including public comments in the docket.

FOR FURTHER INFORMATION CONTACT: Ms. Smitha Vemuri, U.S. Department of Energy, Office of the General Counsel, GC-32, 1000 Independence Avenue SW, Washington, DC 20585-0121. Telephone: (202) 586-3421. Email: smitha.vemuri@hq.doe.gov.

For further information on how to submit a comment or review other public comments and the docket contact the Appliance and Equipment Standards Program staff at (202) 287-1445 or by email: ApplianceStandardsQuestions@ee.doe.gov.

SUPPLEMENTARY INFORMATION: On August 31, 2020, the U.S. Department of Energy (DOE) published a document in the Federal Register soliciting public comment on a NOPR, which proposes revisions to existing enforcement regulations for certain consumer products and commercial and industrial equipment covered under the Energy Policy and Conservation Act of 1975, as amended. 85 FR 53691. Comments were originally due by October 30, 2020. On September 24, 2020, DOE received a joint request from the Air-Conditioning, Heating, & Refrigeration Institute, Association of Home Appliance Manufacturers, National Electric Manufacturers Association, and AMCA International requesting a public hearing (see https://beta.regulations.gov/comment/EERE-2019-BT-CE-0015-0002). DOE has reviewed the request and considered the benefit to all stakeholders in providing an opportunity to engage in a public hearing with DOE. DOE also considered the benefit of providing additional time to review the NOPR and gather information/data that DOE is seeking. Accordingly, DOE extends the comment period until December 30, 2020. In addition, DOE will be holding a webinar on December 8, 2020.

Public Participation

DOE invites public participation in this process through participation in the webinar and submission of written comments and information. After the webinar and the closing of the comment period, DOE will consider all timely-submitted comments and additional information obtained from interested parties, as well as information obtained through further analyses.

Participation in the Webinar

The time and date of the webinar are listed in the DATES section at the beginning of this document. If no participants register for the webinar, then it will be cancelled.

Webinar registration information, participant instructions, and information about the capabilities available to webinar participants will be published on DOE's website: https://cms.doe.gov/eere/buildings/public-meetings-and-comment-deadlines. Participants are responsible for ensuring their systems are compatible with the webinar software.

DOE encourages those who wish to participate in the webinar to obtain the NOPR from DOE's website and to be prepared to discuss its contents. Once again, a copy of the NOPR is available at: https://www.regulations.gov/docket?D=EERE-2019-BT-CE-0015.

Signing Authority

This document of the Department of Energy was signed on October 15, 2020, by Joseph J. DeSanctis, Deputy General Counsel for Litigation, Regulation, and Enforcement, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 16, 2020.
Treena V. Garrett,
Federal Register Liaison Officer, U.S. Department of Energy.

[FR Doc. 2020-23321 Filed 10-22-20; 8:45 am]

BILLING CODE 6450-01-P